DEPARTMENT OF THE INTERIOR

Bureau of Indian Affairs

Notice of Intent To Prepare an Environmental Impact Statement for Construction of the Shepard Point Oil Spill Response Facility and Access Road in Cordova, AK

AGENCY: Bureau of Indian Affairs, Interior.

ACTION: Notice.

SUMMARY: This notice advises the public that the Bureau of Indian Affairs (BIA), in cooperation with the Federal Highway Administration and the Eyak Native Corporation, intends to prepare an Environmental Impact Statement (EIS) for the proposed Shepard Point Oil Spill Response Facility (Shepard Point Project) in Cordova, Alaska. The purpose of the project is to meet the need for a deep-port, emergency response docking and staging facility in the Prince William Sound region. Descriptions of the project area and of the proposed action are provided in the SUPPLEMENTARY INFORMATION section. This notice also announces a public scoping meeting for the content of the EIS.

DATES: Comments on the scope and content of the EIS must arrive by November 1, 2002. The public scoping meeting will be held on Thursday, October 17, 2002, at 7 p.m.

ADDRESSES: If you wish to comment, you may submit your comments by any one of several methods. You may mail written comments to the BIA Branch of Roads, Alaska, Project Code “SPOSRF,” P.O. Box 25520, Juneau, Alaska 99802, or hand deliver them to the BIA Regional Office, 709 West 9th, 3rd Floor, Federal Building, Juneau, Alaska. You may also comment via e-mail to shepard_point@tribalnet.org. Please avoid the use of special characters and any form of encryption in e-mail comments. If you do not receive confirmation from the system that your e-mail message was received, contact Ms. Kate Williams directly at (907) 424-7738. Four additional means to submit comments are by telefax to the BIA, at (907) 586-7142, by voice mail to the BIA, at (907) 586-7301, through the public scoping meeting or through a “Public Comment” feature on the Shepard Point Project Web site at http://www.nativevillageofeyak.gov.

The public scoping meeting will be held at the Masonic Temple, 400 1st Street, Cordova, Alaska.

FOR FURTHER INFORMATION CONTACT: Mr. Mark A. Boatwright, (907) 586-7301, or Ms. Kate Williams, (907) 424-7738.

SUPPLEMENTARY INFORMATION: On behalf of the Native Village of Eyak, in accordance with the Agreement and Consent Decree in the Exxon Valdez Case (Case No. A89-095 CI [consolidated] and Case No. A92-175 CI [Ex. A]) and as mandated by the State of Alaska in the 1993, Alyeska settlement (HB 165), the BIA proposes to design and build a deep-water port and oil spill response facility at Shepard Point. The purpose of the facility is to provide, in the event of an emergency, the capability for rapid deployment of oil spill recovery equipment that could be flown into Cordova and subsequently transported by ocean-going, deep draft vessels (defined as having a draft of 25 feet) to an oil spill site in Prince William Sound. To accomplish this, the proposed construction components must address the following:

1. A heavy-duty freight dock with the dock face having a bottom elevation of minus 35′ Mean Lower Level Water (MLLW); e.g., required elevation at periods of low tides.

2. A staging area sufficient for storage of oil spill recovery equipment. This is proposed to be contiguous to the dock.

3. A clear channel to the Prince William Sound with a minimum elevation of minus 35′ MLLW.

4. Road access between the oil spill response dock and the Cordova Airport. As mandated, a new road segment would be constructed between Shepard Point and the existing road that serves the vicinity of the Orca Cannery.

The BIA will have primary responsibility for the planning, design, environmental documentation and permit acquisition for the project. The BIA will also be responsible for any utility relocation, right-of-way acquisition, and construction of the deep-water port and the access road.

Alternatives to the proposed action include variations in project design and the no action alternative. Topics so far identified to be addressed in the EIS include air quality, geology, alterations of shoreline and channel floor, water resources and quality, terrestrial and aquatic habitats, flora and fauna (including effects on anadromous fish species), land use, historic properties, coastal management, economy, transportation, human health and safety (including spill prevention and response), visual environment, environmental justice and cumulative effects. These alternatives and topics may be elaborated, and others may be added through the scoping process.

Public Comment Availability

Comments, including names and addresses of respondents, will be available for public review at the mailing address shown in the ADDRESSES section, during regular business hours, 8 a.m. to 5 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses will be made available for public inspection in their entirety.

Authority

This notice is published in accordance with Section 1503.1 of the Council on Environmental Quality Regulations (40 CFR Parts 1500 through 1508) implementing the procedural requirements of the National Environmental Policy Act of 1969, as amended (42 U.S.C. 4321 et seq.), the Transportation Equity Act Department for the 21st Century (Pub. L. 105-178), and the Department of the Interior Manual (516 DM 1-6), and is in the exercise of authority delegated to the Assistant Secretary—Indian Affairs by 209 DM 8.1.

Dated: September 13, 2002.
Neal A. McCaleb,
Assistant Secretary—Indian Affairs.

[FR Doc. 02-24982 Filed 10-1-02; 8:45 am]

BILLING CODE 4310-W7-P